DEPARTMENT OF HEALTH AND HUMAN SERVICES

Administration for Children and Families

Proposed Information Collection Activity; Annual Report on Households Assisted by the Low Income Home Energy Assistance Program (LIHEAP) (Office of Management and Budget (OMB) #0970-0060)

AGENCY: Office of Community Services (OCS), Administration for Children and Families, HHS.

ACTION: Request for public comment.

SUMMARY: OCS, Division of Energy Assistance, is requesting a substantial change of the Household Report (OMB #0970-0060, expiration May 31, 2025). Grant recipients complete the Household Report on an annual basis, completing either the Long Form or the Short Form version of the report. Submission of the completed report is one requirement for Low Income Home Energy Assistance Program (LIHEAP) grant recipients applying for federal LIHEAP block grant funds. OCS proposes substantive changes, including the addition of reporting requirements for assisted applicants and household member demographic characteristics on the Household Report Long Form and Short Form, and the removal of reporting requirements collecting counts of applicant households by assistance type and poverty interval on the Household Report Long Form.

DATES: Comments are due within 60 days of publication. In compliance with the requirements of the Paperwork Reduction Act of 1995, ACF is soliciting public comment on the specific aspects of the information collection described above.

ADDRESSES: Copies of the proposed collection of information can be obtained and comments may be forwarded by emailing infocollection@acf.hhs.gov. Identify all requests by the title of the information collection.

SUPPLEMENTARY INFORMATION: Description: States, the District of Columbia, and the Commonwealth of Puerto Rico are required to complete the Household Report-Long Form on an annual basis. The Long Form collects the following information:

• Assisted households, by type of LIHEAP assistance and funding source;

• Assisted households receiving bill payment assistance, by funding source;

• Assisted households receiving any type of LIHEAP assistance, by funding source;

• Assisted households by poverty interval, by type of LIHEAP assistance and funding source;

• Assisted households, by type of LIHEAP assistance and funding source, having at least one vulnerable member who is at least 60 years or older, disabled, or 5 years old or younger;

• Assisted households receiving any type of LIHEAP assistance or funding source, having at least one member 60 years or older, disabled, or 5 years old or younger.

Tribal grant recipients and other U.S. territory grant recipients are required to complete the Household Report-Short Form on an annual basis. The Short Form collects data only on the number of households, by funding source, receiving heating, cooling, energy crisis, and/or weatherization benefits.

The information reported in the Household Report Long Form and Short Form is being collected for the Department's annual LIHEAP Report to Congress. The data also provides information about the need for LIHEAP funds. Finally, the data are used in the calculation of LIHEAP performance measures under the Government Performance and Results Act of 1993. The data elements will allow the accuracy of measuring LIHEAP targeting performance and LIHEAP cost efficiency.

ACF is proposing changes to the Household Report Long Form and Short Form beginning with FY 2023 reporting. These changes include additional reporting requirements for assisted household and household member demographic characteristics, and the removal of reporting requirements collecting counts of applicant households by assistance type and poverty interval on the Household Report Long Form. The additional reporting requirements include the following:

1. Number of Households by Owner/Renter Status (own, rent with utilities billed separately, rent with utilities in rental fee, other). [This is optional for FY 2023 reporting and required beginning with FY 2024 reporting].

2. Number of Assisted Applicants by Ethnicity. Grant recipients will report on assisted applicants by ethnicity according to standard census categories. [This is required beginning with FY 2023 reporting].

3. Number of Assisted Applicants by Race. Grant recipients will report on assisted applicants by race according to standard census categories. [This is required beginning with FY 2023 reporting].

4. Number of Assisted Applicants by Gender. Grant recipients will report on assisted applicants by gender. [This is required beginning with FY 2023 reporting].

5. Number of Assisted Household Members by Ethnicity. Grant recipients will report on assisted household members by ethnicity according to standard census categories. [This is optional for FY 2023 reporting and required beginning with FY 2024 reporting].

6. Number of Assisted Household Members by Race. Grant recipients will report on assisted household members by race according to standard census categories. [This is optional for FY 2023 reporting and required beginning with FY 2024 reporting].

7. Number of Assisted Household Members by Gender. Grant recipients will report on assisted household members by gender. [This is optional for FY 2023 reporting and required beginning with FY 2024 reporting].

The proposed additions will provide OCS with critical data that is needed to evaluate if LIHEAP is equitably serving communities across the country. The collection of demographic data including owner/renter status, race, ethnicity, and gender will allow OCS to conduct analysis disaggregated by these variables to assess whether LIHEAP resources are equitably distributed. Therefore, this data collection aligns with the goals of Executive Order 13985 (Advancing Racial Equity and Support for Underserved Communities Through the Federal Government). Additionally, collecting demographic data in LIHEAP will bring the program into alignment with other programs across OCS including the Community Services Block Grant, which currently collects demographic data on beneficiaries, and the Low Income Household Water Assistance Program (LIHWAP), which will collect demographic data on beneficiaries in FY 2023.

To minimize reporting burden to the greatest extent possible, and in recognition of the significant overlap in LIHEAP and LIHWAP grant recipients, OCS is proposing to use the same demographic measures included in the LIHWAP Annual Report in the LIHEAP Household Report. OCS has also removed the reporting requirements for applicant households by assistance type and poverty interval on the Household Report Long Form to offset some of the additional reporting burden entailed by the demographic data collection.

Respondents: State governments, tribal governments, U.S. territories, and the District of Columbia.

Annual Burden Estimates
Instrument | Total number of respondents | Total number of responses per respondent | Average burden hours per response | Annual burden hours
Assisted Household Report-Long Form | 56 | 1 | 67 | 3,752
Assisted Household Report-Short Form | 151 | 1 | 10 | 1,510
Household Application | 6,160,000 | 1 | 1 | 6,160,000

Estimated Total Annual Burden Hours: 6,165,262.

Please note that the above estimate accounts for the burden this data collection entails on LIHEAP applicants. In previous years, OCS has not included an estimate of the burden on households. While OCS does not mandate that LIHEAP grant recipients use a standard household application, we know that grant recipients collect many of the required Household Report data elements through their household application. The annual burden for the household application indicated above accounts for the time it will take LIHEAP applicants to provide the data required by the current Household Report as well as the proposed demographic data elements. To calculate this burden, we used an estimate for the annual number of LIHEAP household applicants multiplied by an average of an hour to provide the data required by the Household Report.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 8629 and 45 CFR 96.92.

Mary B. Jones,
ACF/OPRE Certifying Officer.

[FR Doc. 2022-14057 Filed 6-30-22; 8:45 am]

BILLING CODE 4184-80-P